INTERNATIONAL TRADE COMMISSION

[Investigation No. 731-TA-749 (Third Review)]

Persulfates From China; Correction to Notice of institution

AGENCY: United States International Trade Commission.

ACTION: Notice.

SUMMARY: In a notice published in the Federal Register on March 1, 2013 (78 FR 13891), the Commission published a notice of institution of a five-year review concerning the antidumping duty order on persulfates from China with an incorrect effective date.

Correction: The correct effective date is March 1, 2013. The Commission hereby gives notice of the correction.

DATES: Effective Date: March 1, 2013.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

Authority: This review is being conducted under authority of Title VII of the Tariff Act of 1930; this notice is published pursuant to section 207.61 of the Commission's rules.

Issued: March 1, 2013.
By order of the Commission.
Lisa R. Barton,
Acting Secretary to the Commission.

[FR Doc. 2013-05149 Filed 3-5-13; 8:45 am]

BILLING CODE 7020-02-P